DEPARTMENT OF HEALTH AND HUMAN SERVICES

National Institutes of Health

Office of the Director, National Institutes of Health; Amended Notice of Closed Meeting

Notice is hereby given of a change in the meeting of the Advisory Committee on Research on Women's Health, November 18, 2003, 9 a.m. to November 18, 2003, 5 p.m., Holiday Inn Select Bethesda, 8120 Wisconsin Ave., Bethesda, MD 20814 which was published in the Federal Register on October 28, 2003, FR68;208;61455-61456.

The meeting will be held at the NIH; 8600 Rockville Pike, Building 38; National Library of Medicine Conference Room. The meeting is open to the public.

Dated: October 30, 2003.
LaVerne Y. Stringfield,
Director, Office of Federal Advisory Committee Policy.

[FR Doc. 03-28039 Filed 11-6-03; 8:45 am]

BILLING CODE 4140-01-M